DEPARTMENT OF JUSTICE

Notice of Extension to Public Comment Period for Consent Decree Under the Clean Water Act

On June 6, 2013, the Department of Justice lodged a proposed Consent Decree with the United States District Court for the Southern District of Florida in the lawsuit entitled United States, State of Florida and State of Florida Department of Environmental Protection v. Miami-Dade County, Civil Action No. 1:12-cv-24400-FAM. The Consent Decree resolves all of the United States', State of Florida's, and State of Florida Department of Environmental Protection's claims against Miami-Dade County (“Miami-Dade”) in this case. The proposed Consent Decree includes an estimated $1.6 billion in capital improvements to Miami-Dade's wastewater collection and transmission system over the next 15 years, including sewer assessment, rehabilitation, repair, and replacement work on force mains, sewer lines, manholes, and pumps, and rehabilitation of all three wastewater treatment plants. Miami-Dade has also agreed to implement a number of EPA sewer maintenance and repair programs which EPA believes will dramatically reduce the incidence and severity of sanitary sewer overflows. Miami-Dade also has agreed to pay a penalty of $978,100, of which $511,800 will be paid to the United States, and $466,300 will be paid to Florida. Miami-Dade has also agreed to complete a Supplemental Environmental Project valued at $2,047,200.

The prior notice indicated that the Department of Justice would receive comments concerning the settlement for a period of thirty (30) days from the date of publication of the notice on June 12, 2012. Having received a request for an extension of the initial comment period and given the public interest in this settlement, the United States is extending the comment period for an additional thirty (30) days.

The Department of Justice will receive, for a period of sixty (60) days from June 12, 2013, any comments relating to the proposed Consent Decree. Comments should be addressed to the Assistant Attorney General, Environment and Natural Resources Division, and should refer to United States, State of Florida and State of Florida Department of Environmental Protection v. Miami-Dade County, Civil Action No. 1:12-cv-24400-FAM, D.J. Ref. No. 90-5-1-1-4022/1. All comments must be submitted no later than August 11, 2013. Comments may be submitted by email or by mail:

To submit comments: | Send them to:
By E-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $81 (25 cents per page reproduction cost) payable to the United States Treasury. For a paper copy of the Consent Decree without the appendices, the cost is $25.25.

Maureen Katz,
Assistant Section Chief, Environmental Enforcement Section, Environment and Natural Resources Division.

[FR Doc. 2013-16797 Filed 7-12-13; 8:45 am]

BILLING CODE 4410-CW-P